SECURITIES AND EXCHANGE COMMISSION

Sunshine Act Meeting

Federal Register Citation of Previous Announcement: [70 FR 43725, July 28, 2005].

Status: Closed meeting.

Place: 100 F Street, NE., Washington, DC.

Date and Time of Previously Announced Meeting: Thursday, August 4, 2005 at 2 p.m.

Change in the Meeting: Cancellation of meeting.

The Closed Meeting scheduled for Thursday, August 4, 2005 has been cancelled.

For further information please contact the Office of the Secretary at (202) 551-5400.

Dated: August 2, 2005.
Jonathan G. Katz,
Secretary.

[FR Doc. 05-15507 Filed 8-2-05; 12:05 pm]

BILLING CODE 8010-01-P